DEPARTMENT OF THE INTERIOR

Bureau of Land Management

[WO-350-1430-PN]

Notice of Availability of the Final Programmatic Environmental Impact Statement on Wind Energy Development on BLM-Administered Lands in the Western United States, Including Proposed Amendments to Selected Land Use Plans

AGENCY: Bureau of Land Management.

SUMMARY: In accordance with the National Environmental Policy Act of 1969 (NEPA) and the Federal Land Policy and Management Act of 1976, the Bureau of Land Management (BLM) has prepared a Final Programmatic Environmental Impact Statement (PEIS) for wind energy development in eleven western states, excluding Alaska, that also proposes to amend 52 land use plans.

DATES: BLM land use planning regulations (43 CFR 1610.5-2) state that any person who participated in the planning process, and has an interest that may be adversely affected, may protest. The protest must be filed within 30 days of the date that the Environmental Protection Agency publishes this notice in the Federal Register. Instructions for filing of protests are described in the “Dear Reader” letter in the front of the Final Programmatic Environmental Impact Statement on Wind Energy Development on BLM-Administered Lands in the Western United States and are included in the SUPPLEMENTARY INFORMATION section of this notice.

FOR FURTHER INFORMATION CONTACT: Ray Brady, Group Manager, Lands and Realty (WO-350), Bureau of Land Management, 1849 C St., NW., Mail Stop 1000 LS, Washington, DC 20240. Ph: 202-452-7773.

SUPPLEMENTARY INFORMATION: The BLM prepared the Final Programmatic Environmental Impact Statement on Wind Energy Development on BLM-Administered Lands in the Western United States to (1) assess the environmental, social, and economic impacts associated with wind energy development on public lands in eleven western states (excluding Alaska) and (2) evaluate a number of alternatives to determine the best management approach to mitigating potential impacts and facilitating wind energy development. The Final PEIS analyzes three alternatives for managing wind energy development on BLM-administered lands. The alternatives are: (1) The proposed action, which would implement a Wind Energy Development Program, establish policies and best management practices (BMPs) for wind energy right-of-way (ROW) authorizations, and amend 52 BLM land use plans; (2) the no action alternative, which would allow continued wind energy development under the terms and conditions of the BLM Interim Wind Energy Development Policy, and (3) a limited wind energy development alternative, which would allow wind energy development only in selected locations. The proposed action to implement a Wind Energy Development Program is the BLM's preferred alternative.

As stated above, the proposed action would establish a comprehensive program to address wind energy development on BLM-administered lands. The policies and BMPs developed under the proposed Wind Energy Development Program would establish minimum requirements for management of individual wind energy projects. The proposed policies identify management objectives and address the administration of wind energy development activities. The proposed BMPs identify required mitigation measures that would need to be incorporated into project-specific wind energy development proposals. In addition, the proposed action would amend 52 BLM land use plans. The proposed land use plan amendments include: (1) the adoption of programmatic wind energy development policies and BMPs and (2) identification of specific areas where wind energy development would not be allowed. The purpose of the proposed land use plan amendments is to facilitate preparation and consideration of potential wind energy development ROW applications on BLM-administered lands, but not to eliminate the need for site-specific analysis of individual development proposals.

The following Resource Management Plan (RMP) and Management Framework Plan (MFP) land use plans, itemized in Appendix C of the Final PEIS, are proposed for amendment: Colorado: Royal Gorge RMP and San Luis RMP; Idaho: Cascade RMP, Challis RMP, Jarbridge RMP, Kuna MFP, Lemhi RMP, Owyhee RMP, and Twin Falls MFP; Montana: Billings RMP, Garnet RMP, Headwaters RMP, Judith-Valley-Phillips RMP, and West HiLine RMP; Nevada: Elko RMP, Las Vegas RMP, Paradise-Denio MFP, Shoshone-Eureka RMP, Sonoma-Gerlach MFP, Tonopah RMP, and Wells RMP; New Mexico: Carlsbad RMP, Mimbres RMP, Roswell RMP, and White Sands RMP; Oregon: Andrews/Steens RMP (currently being revised to replace the Andrews MFP and revise part of the Three Rivers RMP), Brothers/La Pine RMP, Coos Bay RMP, Eugene RMP, John Day RMP, Medford RMP, Salem RMP, Southeast Oregon RMP, Three Rivers RMP, Two Rivers RMP, and Upper Deschutes RMP (currently being revised to replace a portion of the Brothers/LaPine RMP); Utah: Cedar-Beaver-Garfield-Antimony RMP, Escalante MFP, Paria MFP, Pinyon MFP, Randolf MFP, St. George RMP, Vermillion MFP, and Zion MFP; Washington: Spokane RMP; Wyoming: Buffalo RMP, Cody RMP, Grass Creek RMP, Green River RMP, Lander RMP, New Castle RMP, and Washakie RMP. No land use plans are proposed for amendment in Arizona or California as part of the Final PEIS; ongoing and future land use plan amendments in these states will address wind energy development where developable wind resources are present.

The Draft Programmatic Environmental Impact Statement on Wind Energy Development on BLM-Administered Lands in the Western United States was made available for public review and comment from September 10, 2004, to December 10, 2004. The Draft PEIS was posted on the project Web site at http://windeis.anl.gov and provided on request as a CD or printed document. More than 120 individuals and organizations participated in the public comment process, including more than 60 recognized organizations (public and private). About 77% of the documents were received via the project Web site and 23% were received via regular mail. On the basis of comment categorization, approximately 718 individual comments were identified.

Volume 3 of the Final PEIS contains the public comments on the Draft PEIS and the BLM's responses. Public comments addressed a broad range of issues. About 31% of the comments were categorized as addressing ecological issues, including monitoring and mitigation; 21% addressed policy issues; 17% addressed avian issues, 10% addressed bat issues; 8% addressed issues related to the scope of the PEIS and the alternatives evaluated; 6% addressed sage-grouse issues; 6% addressed transmission issues; and 4% of the comments addressed land use issues. The remainder of the issues were divided across a number of topics (each comprising less than 3% of the total), including engineering, cumulative impacts, cultural resources, economics, visual impacts, wind resource modeling approach, noise, regulatory issues, water, waste, air quality, geology, and transportation issues. (The percentages total more than 100% because many of the comments can be categorized under more than one key issue). Public comments on the Draft PEIS, including the proposed land use plan amendments, and internal BLM review comments were incorporated into the Final PEIS. Public comments resulted in the addition of clarifying text, but did not significantly change the proposed action or proposed land use plan amendments.

Government-to-Government consultation regarding potential wind energy development and land use plan amendments on BLM-administered lands was conducted with Tribal entities whose interests might be directly and substantially affected. The Tribal entities contacted are listed in Chapter 7 in the Final PEIS.

The U.S. Department of Energy (DOE) cooperated with the BLM in preparation of the PEIS. In addition, the BLM consulted with other federal agencies during preparation of the Draft and Final PEIS, including the U.S. Fish and Wildlife Service (USFWS), U.S. Air Force, and agency representatives to the Federal Energy Resources Network. In accordance with a memorandum of agreement between the BLM and the USFWS, the BLM is consulting with the USFWS regarding the proposed land use plan amendments. These consultations will be conducted in accordance with the requirements of Section 7 of the Endangered Species Act (16 U.S.C. 1536) and are expected to result in the issuance of a programmatic biological assessment and biological opinion.

In addition, the BLM initiated activities to coordinate and consult with the governors of each of the eleven western states addressed in the PEIS and with state agencies. Prior to the issuance of a record of decision and approval of proposed land use plan amendments, the governor of each state will be given the opportunity to identify any inconsistencies between the proposed land use plan amendments and state or local plans and to provide recommendations in writing during the 60-day consistency review period required by the BLM land use planning regulations (43 CFR 1610.3-2).

Copies of the Final Programmatic Environmental Impact Statement on Wind Energy Development on BLM-Administered Lands in the Western United States, including the proposed land use plan amendments (Appendix C), have been sent to the Environmental Protection Agency, DOI Office of Environmental Policy and Compliance, DOI Library, and the governors office in each of the eleven western states. Copies of the Final PEIS are available at the BLM State Offices in the eleven western states and the BLM Washington Office, Public Affairs Office. Interested persons may also review the Final PEIS and proposed land use plan amendments on the Internet at http://windeis.anl.gov.

Instructions for filing a protest regarding the proposed land use plan amendments may be found at 43 CFR 1610.5. A protest may only raise those issues which were submitted for the record during the NEPA/planning process. E-mail and faxed protests will not be accepted as valid protests unless the protesting party also provides the original letter by either regular or overnight mail postmarked by the close of the protest period. Under these conditions, the e-mail or faxed protest will be considered as an advance copy and it will receive full consideration. If you wish to provide such advance notification, please direct faxed protests to the attention of the BLM protest coordinator at 202-452-5112, and e-mails to Brenda_Hudgens-Williams@blm.gov.

Please direct the follow-up letter to the appropriate address provided below.

The protest must contain:

a. The name, mailing address, telephone number, and interest of the person filing the protest.

b. A statement of the specific land use plan(s) by name and the amendment(s) being protested.

c. A copy of all documents addressing the issue(s) that the protesting party submitted during the NEPA/planning process or a statement of the date they were discussed for the record.

d. A concise statement explaining why the protestor believes the proposed land use plan amendment(s) is wrong.

All protests must be in writing and mailed to the following address:

Regular Mail: Bureau of Land Management, Director (210), Attention: Brenda Williams, P.O. Box 66538, Washington, DC 20035.

Overnight Mail: Bureau of Land Management, Director (210), Attention: Brenda Williams, 1620 L Street, NW., Suite 1075, Washington, DC 20036.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

A decision shall be rendered promptly on the protest. The decision will be in writing and will be sent to the protesting party by certified mail, return receipt requested.

Dated: May 13, 2005.
Ray Brady,
Group Manager, Lands and Realty.

[FR Doc. 05-12475 Filed 6-23-05; 8:45 am]

BILLING CODE 4310-JB-P